NATIONAL SCIENCE FOUNDATION

Proposal Review Panel for Computing and Communication Foundations; Notice of Meeting

SUMMARY: In accordance with the Federal Advisory Committee Act (Pub., L. 92-463, as amended), the National Science Foundation announces the following meeting:

Name: Proposal Review Panel for Expeditions in Computing (EIC) Program (#1192) Site Visit.

DATES:

September 23, 2014, 6 p.m.-9 p.m.

September 24, 2014, 8 a.m.-8 p.m.

September 25, 2014, 8:30 a.m.-3 p.m.

ADDRESSES: Massachusetts Institute of Technology, Cambridge, MA 02139.

FOR FURTHER INFORMATION CONTACT: Ralph Wachter, National Science Foundation, 4201 Wilson Boulevard, Room 1175, Arlington, VA 22230. Telephone: (703) 292-8950.

SUPPLEMENTARY INFORMATION: Type of Meeting: Part Open.

Purpose of Meeting: NSF site visit to assess the progress of the EIC Award: CCF1138967, “Collaborative Research: An Expedition in Computing for Compiling Printable Programmable Machines”, and to provide advice and recommendations concerning further NSF support for the Center.

EIC Site Visit Agenda

Tuesday, September 23, 2014

6 p.m. to 9 p.m.: Closed

Site Team and NSF Staff meets to discuss Site Visit materials, review process and charge.

Wednesday, September 24, 2014

8 a.m. to 1 p.m.: Open

Presentations by Awardee Institution, faculty staff, and students to the Site Team and NSF Staff Discussions, question and answer sessions.

1 p.m.-8 p.m.: Closed

Draft report on education and research activities.

Thursday, September 25, 2014

8:30 a.m.-noon: Open

Response presentations by Site Team and NSF Staff Awardee Institution Discussions, question and answer sessions.

Noon to 3 p.m.: Closed

Complete written site visit report with preliminary recommendations.

Reason for closing: The proposals being reviewed include information of a proprietary or confidential nature, including technical information; financial data, such as salaries; and personal information concerning individuals associated with the proposals. These matters are exempt under 5 U.S.C. 552b(c), (4) and (6) of the Government in the Sunshine Act.

Dated: August 13, 2014.
Crystal Robinson,
Acting Committee Management Officer.

[FR Doc. 2014-19544 Filed 8-19-14; 8:45 am]

BILLING CODE 7555-01-M